DEPARTMENT OF DEFENSE

32 CFR Part 266

RIN 0790-AJ30

Audits of State and Local Governments, Institutions of Higher Education, and Other Nonprofit Institutions

AGENCY: Department of Defense.

ACTION: Final rule.

SUMMARY: This final rule removes regulations concerning the audits of state and local governments, institutions of higher education, and other nonprofit institutions. The Code of Federal Regulations (CFR) provisions being removed contain policies and procedures directed at DoD component personnel and not the public. Additionally, other DoD guidance on this subject has been published in the Defense Grant and Agreement Regulations, to provide appropriate notice to outside entities.

DATES: This rule is effective on March 16, 2015.

FOR FURTHER INFORMATION CONTACT: Patricia Toppings at 571-372-0485.

SUPPLEMENTARY INFORMATION: A copy of the current DoD Instruction is available at http://www.dtic.mil/whs/directives/corres/pdf/760010p.pdf). Additionally, other DoD guidance on this subject has been published in the Defense Grant and Agreement Regulations, codified at 32 CFR part 21 through 37, to provide appropriate notice to outside entities.

List of Subjects in 32 CFR Part 266

Accounting, Colleges and universities, Grant programs, Indians, Intergovernmental relations, Loan programs, and Nonprofit organizations.

PART 266—[REMOVED]

Accordingly, by the authority of 5 U.S.C. 301, 32 CFR part 266 is removed.

Dated: March 11, 2015.
Aaron Siegel,
Alternate OSD Federal Register Liaison Officer, Department of Defense.

[FR Doc. 2015-05915 Filed 3-13-15; 8:45 am]

BILLING CODE 5001-06-P